DEPARTMENT OF ENERGY

Federal Energy Regulatory Commission

Errata Notice

December 3, 2004.

In the matter of: 11978-002, 12037-001, 12191-001, 12195-001, 12226-001, 12237-001, 12242-001, 12243-001, 12263-001, 12268-001, 12277-001, 12278-001, 12281-001, 12294-001, 12364-002, and 12417-001; Symbiotics, LLC, Symbiotics, LLC, Prosser Creek Hydro, LLC, McCloud Hydro, LLC, Gillham Hydro, LLC, Nimrod Hydro, LLC, San Jacinto Hydro, LLC, Spavinaw Hydro, LLC, Great Salt Plains, LLC, Wappapello Hydro, LLC, GV Montgomery Hydro, LLC, KR 6 Hydro, LLC, Wilkins Hydro, LLC, Huntington Hydro, LLC, Rough River Hydro, LLC, Coralville Hydro, LLC.

On December 1, 2004, the Commission issued a “Notice of Surrender of Preliminary Permits” on December 1, 2004, in the above-reference docket numbers. This Errata Notice corrects the project number for Gillham Hydro, to read: 12226-001.

This correction is reflected in the caption above.

Magalie R. Salas,
Secretary.

[FR Doc. E4-3564 Filed 12-8-04; 8:45 am]

BILLING CODE 6717-01-P